DEPARTMENT OF ENERGY

Federal Energy Regulatory Commission

Combined Notice of Filings #2

Take notice that the Commission received the following electric corporate filings:

Docket Numbers: EC14-106-000.

Applicants: CPV Maryland, LLC.

Description: Application for Authorization Under Section 203 of the Federal Power Act and Request for Waivers and Expedited Action of CPV Maryland, LLC.

Filed Date: 6/20/14.

Accession Number: 20140620-5103.

Comments Due: 5 p.m. ET 7/11/14.

Take notice that the Commission received the following electric rate filings:

Docket Numbers: ER10-2881-013; ER10-2882-013; ER10-2883-013; ER10-2884-013; ER10-2885-013; ER10-2641-013; ER10-2663-013; ER10-2886-013; ER13-1101-008; ER13-1541-007; ER14-787-001.

Applicants: Alabama Power Company.

Description: Notification of Non-Material of Change in Status of Alabama Power Company, et al.

Filed Date: 6/20/14.

Accession Number: 20140620-5087.

Comments Due: 5 p.m. ET 7/11/14.

Docket Numbers: ER13-1653-001.

Applicants: FirstEnergy Solutions Corp.

Description: Authorization for Affiliate Sales to be effective 6/1/2014.

Filed Date: 6/20/14.

Accession Number: 20140620-5093.

Comments Due: 5 p.m. ET 7/11/14.

Docket Numbers: ER14-2232-000.

Applicants: Capital Energy LLC.

Description: Baseline new to be effective 6/21/2014.

Filed Date: 6/20/14.

Accession Number: 20140620-5066.

Comments Due: 5 p.m. ET 7/11/14.

Docket Numbers: ER14-2233-000.

Applicants: Michigan Electric Transmission Company, LLC.

Description: Filing of a Certificate of Concurrence to be effective 6/13/2014.

Filed Date: 6/20/14.

Accession Number: 20140620-5069.

Comments Due: 5 p.m. ET 7/11/14.

Docket Numbers: ER14-2234-000.

Applicants: Kentucky Utilities Company.

Description: BREC 2nd Amd and Restated IA to be effective 8/20/2014.

Filed Date: 6/20/14.

Accession Number: 20140620-5072.

Comments Due: 5 p.m. ET 7/11/14.

Docket Numbers: ER14-2235-000.

Applicants: Midcontinent Independent System Operator, Inc., Ameren Illinois Company.

Description: 2014-06-20_SA 2005 Ameren-Hoosier WDS Amend Agr to be effective 9/1/2013.

Filed Date: 6/20/14.

Accession Number: 20140620-5080.

Comments Due: 5 p.m. ET 7/11/14.

Docket Numbers: ER14-2236-000.

Applicants: PJM Interconnection, L.L.C., New York Independent System Operator, Inc.

Description: PJM NYISO joint filing re: Coordinated Transaction Scheduling w/PJM Schedule A to be effective 12/31/9998.

Filed Date: 6/20/14.

Accession Number: 20140620-5106.

Comments Due: 5 p.m. ET 7/11/14.

Docket Numbers: ER14-2237-000.

Applicants: Midcontinent Independent System Operator, Inc.

Description: 2014-06-20_SA 2662 MidAm Amended GIA (J274) to be effective 6/21/2014.

Filed Date: 6/20/14.

Accession Number: 20140620-5113.

Comments Due: 5 p.m. ET 7/11/14.

Take notice that the Commission received the following open access transmission tariff filings:

Docket Numbers: OA08-14-000.

Applicants: Midwest Independent Transmission System, Inc.

Description: Annual Compliance Report as Required by Order No. 890-A of Midcontinent Independent System Operator, Inc.

Filed Date: 5/30/14.

Accession Number: 20140530-5481.

Comments Due: 5 p.m. ET 7/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2014.
Nathaniel J. Davis, Sr.,
Deputy Secretary.

[FR Doc. 2014-15183 Filed 6-27-14; 8:45 am]

BILLING CODE 6717-01-P